DEPARTMENT OF VETERANS AFFAIRS

Advisory Committee on Minority Veterans, Notice of Meeting

The Department of Veterans Affairs (VA) gives notice under the Federal Advisory Committee Act, 5 U.S.C. App. 2 that the Advisory Committee on Minority Veterans will meet on December 1-3, 2015, at the Department of Veterans Affairs, 810 Vermont Avenue NW., Conference Room 230, Washington, DC. On December 1st and 2nd, the sessions will begin at 8:00 a.m. and end at 5:00 p.m. On December 3rd, the session will reconvene at 8:00 a.m. and adjourn at 1:00 p.m. This meeting is open to the public.

The purposes of the Committee are to: advise the Secretary on the administration of VA benefits and services to minority Veterans; assess the needs of minority Veterans; and evaluate whether VA compensation, medical and rehabilitation services, outreach, and other programs are meeting those needs. The Committee makes recommendations to the Secretary regarding such activities.

On December 1, the Committee will receive briefings and updates from the Center for Minority Veterans, Office of Health Equity, National Center for Veterans Analysis, Office of Tribal Government Relations (OTGR), MyVA Initiative, and Veterans Benefits Administration. On December 2, the Committee will receive briefings and updates on the National Cemetery Administration (NCA), Mental Health Services, Veterans Economic Community Initiative, Women's Health Services, Office of Rural Health, Veterans Health Administration (VHA), and Homeless Programs. On December 3, the Committee will receive a briefing and update on Office of Diversity & Inclusion, Ex-Officios Update and hold an exit briefing with VBA, VHA and NCA. The Committee will receive public comments from 10:00 a.m. to 10:15 a.m. After public comments, the Committee will continue to work on their report.

A sign-in sheet for those who want to give comments will be available at the meeting. Individuals who speak are invited to submit a 1-2 page summaries of their comments at the time of the meeting for inclusion in the official meeting record. Members of the public may also submit written statements for the Committee's review to Ms. Juanita Mullen, Department of Veterans Affairs, Center for Minority Veterans (00M), 810 Vermont Avenue NW., Washington, DC 20420, or email at Juanita.Mullen@va.gov. Because the meeting will be in a Government building, anyone attending must be prepared to show a valid photo ID for checking in. Please allow 15 minutes before the meeting begins for this process. Any member of the public wishing to attend or seeking additional information should contact Ms. Mullen or Ms. Denise Wright at (202) 461-6191 or by fax at (202) 273-7092.

Dated: November 6, 2015.
Jelessa Burney,
Federal Advisory Committee Management Officer.

[FR Doc. 2015-28724 Filed 11-10-15; 8:45 am]

BILLING CODE P